DEPARTMENT OF TRANSPORTATION

Federal Aviation Administration

14 CFR Part 97

[Docket No. 30276 Amdt. No. 2076]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulator actions are needed because of the adoption of new or revised criteria, or because of change occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Wasington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the regulatory Flexibility Act.

List of Subjects in 14 CFR Part 97

Air traffic control, Airports, Navigation (air).

Issued in Washington, DC, on October 26, 2001.
Nicholas A. Sabatini,
Director, Flight standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective November 1, 2001

Palatka, FL, Kay Larkin, NDB OR GPS RWY 9, Amdt 2

Everett, WA, Snohomish County (Paine Field), ILS RWY 16R, Amdt 19

* * * Effective November 29, 2001

Memphis, TN, Memphis, NDB RWY 9, Amdt 27

Provo, UT, Provo Muni, ILS RWY 13, Orig-A, CANCELLED

Provo, UT, Provo Muni, ILS Z RWY 13, Orig, CANCELLED

Provo, UT, Provo Muni, ILS RWY 13, Orig

* * * Effective December 27, 2001

Iliamna, AK, Iliamna, NDB RWY 35, Amdt 1

Iliamna, AK, Iliamna, RNAV (GPS) RWY 7, Orig

Iliamna, AK, Iliamna, RNAV (GPS) RWY 17, Orig

Iliamna, AK, Iliamna, RNAV (GPS) RWY 25, Orig

Iliamna, AK, Iliamna, RNAV (GPS) RWY 35, Orig

Fayetteville/Springdale/Rogers, AR, Northwest Arkansas Regional, GPS RWY 16, Orig, CANCELLED

Fayetteville/Springdale/Rogers, AR, Northwest Arkansas Regional, GPS RWY 34, Amdt 1, CANCELLED

Fayetteville/Springdale/Rogers, AR, Northwest Arkansas Regional, RNAV (GPS) RWY 16, Orig

Fayetteville/Springdale/Rogers, AR, Northwest Arkansas Regional, RNAV (GPS) RWY 34, Orig

Santa Ana, CA, John Wayne Orange County, RNAV (GPS) RWY 1L, Orig

Santa Ana, CA, John Wayne Orange County, RNAV (GPS) RWY 19L, Orig

Kahului, HI, Kahului, RNAV (GPS) RWY 2, Orig

Algona, IA, Algona Muni, GPS RWY 30, Orig, CANCELLED

Algona, IA, Algona Muni, RNAV (GPS) RWY 30, Orig

Boone, IA, Boone Muni, RNAV (GPS) RWY 15, Orig

Boone, IA, Boone Muni, RNAV (GPS) RWY 33, Orig

Boone, IA, Boone Muni, GPS RWY 15, Amdt 1A CANCELLED

Boone, IA, Boone Muni, GPS RWY 33, Orig-A CANCELLED

Council Bluffs, IA, Council Bluffs Muni, RNAV (GPS) RWY 13, Orig

Council Bluffs, IA, Council Bluffs Muni, RNAV (GPS) RWY 31, Orig

Council Bluffs, IA, Council Bluffs Muni, GPS RWY 31, Orig CANCELLED

Monticello, IA, Monticello Regional, RNAV (GPS) RWY 15, Orig

Monticello, IA, Monticello Regional, RNAV (GPS) RWY 33, Orig

Monticello, IA, Monticello Regional, NDB-A Amdt 4

Monticello, IA, Monticello Regional, VOR/DME RNAV OR GPS RWY 31, Amdt 1B, CANCELLED

Pella, IA, Pella Muni, GPS RWY 16, Amdt 1, CANCELLED

Pella, IA, Pella Muni, RNAV Z RWY 16, Orig

Pella, IA, Pella Muni, RNAV Z RWY 34, Orig

Chicago, IL, Chicago Midway, RNAV (GPS) RWY 4R, Orig

Grand Rapids, MI, Gerald R. Ford Intl, RNAV (GPS) RWY 8L, Orig

Grand Rapids, MI, Gerald R. Ford Intl, RNAV (GPS) RWY 17, Orig

Grand Rapids, MI, Gerald R. Ford Intl, RNAV (GPS) RWY 26R, Orig

Grand Rapids, MI, Gerald R. Ford Intl, RNAV (GPS) RWY 35, Orig

Great Falls, MT, Great Falls Intl, RNAV (GPS) RWY 3, Orig

Great Falls, MT, Great Falls Intl, GPS RWY 3, Orig, CANCELLED

Albuquerque, NM, Albuquerque Intl Sunport, RNAV (GPS) RWY 3, Orig

Albuquerque, NM, Albuquerque Intl Sunport, RNAV (GPS) RWY 17, Orig

Albuquerque, NM, Albuquerque Intl Sunport, RNAV (GPS) RWY 35, Orig

Asheville, NC, Asheville Regional, RNAV (GPS) RWY 16, Orig

Asheville, NC, Asheville Regional, RNAV (GPS) RWY 34, Orig

Monroe, NC, Monroe, RNAV (GPS) RWY 5, Orig

Wilmington, NC, Wilmington Intl, NDB RWY 35, Amdt 17

St. George, UT, St. George Muni, VOR/DME RWY 34, Amdt 3

Salt Lake City, UT, Salt Lake City Muni 2, RNAV (GPS) RWY 34, Orig

Emporia, VA, Emporia-Greensville Regional, RNAV (GPS) RWY 33, Orig

Antigo, WI, Langlade County, NDB RWY 16, Amdt 5

Antigo, WI, Langlade County, RNAV (GPS) RWY 16, Orig

Antigo, WI, Langlade County, RNAV (GPS) RWY 34, Orig

[FR Doc. 01-27572 Filed 11-1-01; 8:45 am]

BILLING CODE 4910-13-M